DEPARTMENT OF COMMERCE

Census Bureau

Proposed Information Collection; Comment Request; Manufacturers' Shipments, Inventories, and Orders Benchmark Supplement

AGENCY: U.S. Census Bureau.

ACTION: Notice.

SUMMARY: The Department of Commerce, as part of its continuing effort to reduce paperwork and Respondent burden, invites the general public and other Federal agencies to take this opportunity to comment on proposed and/or continuing information collections, as required by the Paperwork Reduction Act of 1995, Public Law 104-13 (44 U.S.C. 3506(c)(2)(A)).

DATES: To ensure consideration written comments must be submitted on or before November 15, 2010.

ADDRESSES: Direct all written comments to Diana Hynek, Departmental Paperwork Clearance Officer, Department of Commerce, Room 6616, 14th and Constitution Avenue, NW., Washington, DC 20230 (or via the Internet at DHynek@doc.gov).

FOR FURTHER INFORMATION CONTACT: Requests for additional information or copies of the information collection instrument(s) and instructions should be directed to Chris Savage, U.S. Census Bureau, Room 7K071, Washington, DC 20233-6900, (301) 763-4832, or via the internet at John.C.Savage@census.gov.

SUPPLEMENTARY INFORMATION:

I. Abstract

The Manufacturers' Shipments, Inventories, and Orders (M3) survey collects monthly data on shipments, inventories, and orders from domestic manufacturing companies. The purpose of the M3 survey is to provide early broad-based monthly statistical data on current economic conditions and indications of future production commitments in the manufacturing sector. The orders, as well as the shipments and inventory data, are used widely and are valuable tools for analysis of business cycle conditions. Major data users include: Members of the Council of Economic Advisers, Bureau of Economic Analysis, Federal Reserve Board, Conference Board, Treasury Department, and the business community.

The monthly M3 Survey data reflect primarily the month-to-month changes of companies within the survey. The M3 survey collects data for 89 industry categories of which 13 provide non-defense and defense allocations. Those industries include: Small Arms and Ordnance; Communications Equipment; Search and Navigation Equipment; Aircraft; Aircraft Engine and Parts; Missile, Space Vehicle, and Parts Manufacturing Defense; and Ship and Boat Building.

There is a clear need to perform a periodic benchmark of the M3 estimates to reflect the manufacturing universe levels. The Annual Survey of Manufactures (ASM) provides annual benchmarks for the shipments and inventory data for the M3 survey, however, the ASM does not distinguish between non-defense and defense activities. The U.S. Census Bureau plans a reinstatement to an expired collection “Manufacturers' Shipments, Inventories, and Orders to the Department of Defense Supplement: 2006-2007,” (M-3DOD) to be renamed “Manufacturers' Shipments, Inventories, and Orders Benchmark Supplement” (MA-3001). This form will be cognitive tested before being mailed out in 2011, which may include a title change. After analyzing the results of the 2008 survey, the Census Bureau ascertained the need for an annual data collection for non-defense and defense manufacturing activities. The last collection instrument used to benchmark defense and non-defense data before the “Manufacturers' Shipments, Inventories, and Orders to the Department of Defense Supplement: 2006-2007” was the Shipments to Federal Agencies Benchmark Survey (MA-9675) conducted in 1992.

The “Manufacturers' Shipments, Inventories, and Orders Benchmark Supplement” will be used as a benchmark for the M3 Survey each year. The Census Bureau will use these data to develop an accurate defense/non-defense split among the 13 industry categories in the M3 Survey.

II. Method of Collection

To ease respondent burden, we permit companies to submit their data through an Internet Reporting System or by fax. Companies will be asked to respond to the survey within 30 days of receipt. Letters encouraging participation will be mailed to companies that have not responded by the designated time. Telephone follow-up will be conducted to obtain response from delinquent companies.

III. Data

OMB Control Number: 0607-0949.

Form Number: MA-3001.

Type of Review: Regular submission.

Affected Public: Businesses or other for-profit organizations.

Estimated Number of Respondents: 4,000.

Estimated Time per Response: 30 minutes.

Estimated Total Annual Burden Hours: 2,000.

Estimated Total Annual Cost: $64,840.

Respondent's Obligation: Mandatory.

Legal Authority: Title 13, U.S.C., Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 10, 2010.
Glenna Mickelson,
Management Analyst, Office of the Chief Information Officer.

[FR Doc. 2010-22968 Filed 9-14-10; 8:45 am]

BILLING CODE 3510-07-P